DEPARTMENT OF ENERGY

Federal Energy Regulatory Commission

[Docket No. CP01-415-000]

East Tennessee Natural Gas Company; Notice of Meeting

August 14, 2002.

The staff of the Federal Energy Regulatory Commission (FERC) will conduct a meeting with the Blue Ridge Coalition and any other interested persons pertaining to East Tennessee Natural Gas Company's proposed natural gas pipeline Patriot Project in Tennessee, Virginia, and North Carolina. The meeting will be held in Room 3M-3 of the FERC headquarters in Washington DC, 888 First Street, NE., on August 22 starting at 3 p.m. Any interested persons may attend.

Linwood A. Watson, Jr.,
Deputy Secretary.

[FR Doc. 02-21146 Filed 8-19-02; 8:45 am]

BILLING CODE 6717-01-P